DEPARTMENT OF STATE

[Delegation of Authority No. 574]

Delegation of Authority; Delegation of the Functions and Authorities Relating to Immunity From Judicial Seizure

By virtue of the authorities of the Assistant Secretary for Educational and Cultural Affairs vested in me pursuant to Delegation of Authority No. 573-29, dated February 1, 2025, in accordance with Delegation of Authority No. 236-3, dated August 28, 2000, and to the extent permitted by law, I hereby authorize Chris Miner to exercise the functions and authorities in 22 U.S.C. 2459, concerning immunity from judicial seizure for cultural objects imported into the United States for temporary storage, conservation, scientific research, exhibition or display.

Any functions or authorities covered by this delegation may also be exercised by the Secretary, the Deputy Secretary, the Deputy Secretary for Management and Resources, the Under Secretary for Public Diplomacy and Public Affairs, and the Assistant Secretary for Educational and Cultural Affairs.

This delegation of authority will terminate upon the entry on duty of an individual assigned as the Deputy Assistant Secretary for Professional and Cultural Exchanges, unless sooner revoked. This delegation of authority does not supersede or otherwise affect any other delegation of authority currently in effect.

Any reference in this delegation of authority to any statute or delegation of authority shall be deemed to be a reference to such statute or delegation of authority as amended from time to time.

This delegation shall be published in the Federal Register.

Dated: March 4, 2025.
Darren J. Beattie,
Senior Bureau Official, Bureau of Educational and Cultural Affairs, U.S. Department of State.

[FR Doc. 2025-03928 Filed 3-11-25; 8:45 am]

BILLING CODE 4710-05-P